ENVIRONMENTAL PROTECTION AGENCY

[OPP-2005-0277; FRL-7742-1]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period July 1, 2005 - September 30, 2005 to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460-0001; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you are an agricultural producer, food manufacturer, or pesticide manufacturer. Potentially affected entities may include, but are not limited to:

• Crop production (NAICS code 111)

• Animal production (NAICS code 112)

• Food manufacturing (NAICS code 311)

• Pesticide manufacturing (NAICS code 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed underFOR FURTHER INFORMATION CONTACT.

B. How Can I Get Copies of this Document and Other Related Information?

1. Docket. EPA has established an official public docket for this action under docket identification number OPP-2005-0277. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U.S. States and Territories

Alabama

Department of Agriculture and Industries

Specific: EPA authorized the use of sulfosulfuron on Bermuda and Bahia grass pastures, and hayfields to control Johnson grass; September 23, 2005 to September 15, 2006. Contact: (Libby Pemberton)

Arizona

Department of Agriculture

Specific: EPA authorized the use of coumaphos in beehives to control varroa mites and small hive beetles; August 25, 2005 to February 1, 2006. Contact: (Stacey Groce)

Arkansas

State Plant Board

Specific: EPA authorized the use of methoxyfenozide on soybeans to control saltmarsh catepillars and armyworms; August 9, 2005 to October 30, 2005. Contact: (Stacey Groce)

EPA authorized the use of thymol in beehives to control varroa mites; August 25, 2005 to December 1, 2006. Contact: (Stacey Groce)

California

Environmental Protection Agency, Department of Pesticide Regulation

Specific: EPA authorized the use of myclobutanil on artichoke to control powdery mildew; August 18, 2005 to August 18, 2006. Contact: (Stacey Groce)

Delaware

Department of Agriculture

Specific: EPA authorized the use of bifenazate on soybeans to control two spotted spider mites; July 19, 2005 to August 1, 2005. Contact: (Libby Pemberton)

Florida

Department of Agriculture and Consumer Services

Quarantine: EPA authorized the use of naled in bait stations to control fruit flies; September 22, 2005, to September 22, 2008. Contact: (Andrew Ertman)

Specific: EPA authorized the use of thiophanate-methyl on cotton to control fusarium hardlock; July 21, 2005 to July 21, 2006. Contact: (Stacey Groce)

Georgia

Department of Agriculture

Specific: EPA authorized the use of terbacil on watermelons to control annual broadleaf plants; July 15, 2005 to July 31, 2005. Contact: (Stacey Groce)

EPA authorized the use of sulfosulfuron on Bermuda and Bahia grass pastures, and hayfields to control Johnson grass; September 23, 2005 to September 15, 2006. Contact: (Libby Pemberton)

Idaho

Department of Agriculture

Specific: EPA authorized the use of diflubenzuron on barley and wheat to control grasshoppers and Mormon crickets; July 1, 2005 to August 1, 2005. Contact: (Libby Pemberton)

EPA authorized the use of flufenacet on wheat to control Italian ryegrass; September 23, 2005 to December 31, 2005. Contact: (Andrew Ertman)

Louisiana

Department of Agriculture and Forestry

Specific: EPA authorized the use of methoxyfenozide on sorghum grain to control southwestern corn borer and sugarcane borer; August 4, 2005 to September 15, 2005. Contact: (Stacey Groce)

EPA authorized the use of sulfosulfuron on Bermuda and Bahia grass pastures, and hayfields to control Johnson grass; September 23, 2005 to September 15, 2006. Contact: (Libby Pemberton)

Minnesota

Department of Agriculture

Specific: EPA authorized the use of lambda-cyhalothrin on wild rice to control rice worms; June 30, 2005 to September 10, 2005. Contact: (Andrew Ertman)

Mississippi

Department of Agriculture and Commerce

Specific: EPA authorized the use of sulfosulfuron on Bermuda and Bahia grass pastures, and hayfields to control Johnson grass; September 23, 2005 to September 15, 2006. Contact: (Libby Pemberton)

Montana

Department of Agriculture

Specific: EPA authorized the use of azoxystrobin on safflower to control Alternaria leaf spot; July 15, 2005 to August 15, 2005. Contact: (Libby Pemberton)

EPA authorized the use of diflubenzuron on alfalfa to control grasshoppers and Mormon crickets; August 25, 2005 to September 30, 2005. Contact: (Libby Pemberton)

Nebraska

Department of Agriculture

Crisis: On August 18, 2005, for the use of tebuconazole on sunflower to control rust. This program ended on September 1, 2005.Contact: (Stacey Groce)

Specific: EPA authorized the use of tebuconazole on field corn seed to control head smut (Sphacelotheca reiliana (Kuhn); August 11, 2005 to May 30, 2006. Contact: (Libby Pemberton)

Nevada

Department of Agriculture

Specific: EPA authorized the use of thymol in beehives to control varroa mites; August 25, 2005 to December 1, 2006. Contact: (Stacey Groce)

New Mexico

Department of Agriculture

Specific: EPA authorized the use of myclobutanil on chile peppers and bell peppers to control powdery mildew; July 1, 2005 to October 15, 2005. Contact: (Stacey Groce)

North Carolina

Department of Agriculture

Crisis: On July 5, 2005, for the use of azoxystrobin on tobacco to control target spot. This program ended on July 22, 2005. Contact: (Libby Pemberton)

North Dakota

Department of Agriculture

Crisis: On August 5, 2005, for the use of diquat dibromide on canola as a harvest aid. This program ended on August 19, 2005. Contact: (Libby Pemberton)

Specific: EPA authorized the use of azoxystrobin on safflower to control Alternaria leaf spot; July 7, 2005 to August 15, 2005. Contact: (Libby Pemberton)

Oklahoma

Department of Agriculture

Specific: EPA authorized the use of thymol in beehives to control varroa mites; September 15, 2005 to December 1, 2006. Contact: (Stacey Groce)

EPA authorized the use of sulfosulfuron on Bermuda and Bahia grass pastures, and hayfields to control Johnson grass; September 23, 2005 to September 15, 2006. Contact: (Libby Pemberton)

Oregon

Department of Agriculture

Specific: EPA authorized the use of bifenthrin on orchardgrass to control the orchardgrass billbug; July 8, 2005 to November 15, 2005. Contact: (Andrea Conrath)

EPA authorized the use of flufenacet on wheat to control Italian ryegrass; September 23, 2005 to December 31, 2005. Contact: (Andrew Ertman)

EPA authorized the use of ethoprop on baby mint to control garden symphylan (Scutigerella immaculata); July 22, 2005 to September 15, 2005. Contact: (Libby Pemberton)

South Carolina

Clemson University

Crisis: On July 14, 2005, for the use of azoxystrobin on tobacco to control target spot. This program ended on July 28, 2005. Contact: (Libby Pemberton)

Tennessee

Department of Agriculture

Specific: EPA authorized the use of azoxystrobin on tobacco to control (Cercospora nicotianae) and Target spot (Rhizoctonia solani); August 9, 2005 to October 15, 2005. Contact: (Libby Pemberton)

Utah

Department of Agriculture

Specific: EPA authorized the use of bifenazate on tart cherries to control two spotted spider mites (Tetranychus urticae Koch); McDaniel mite (Tetranychus mcdanieli Mcgregor); and European red mite (Panonychus ulmi (Koch)); July 19, 2005 to September 1, 2005. Contact: (Libby Pemberton)

Virginia

Department of Agriculture and Consumer Services

Specific: EPA authorized the use of thymol in beehives to control varroa mites; August 25, 2005 to December 1, 2006. Contact: (Stacey Groce)

Washington

Department of Agriculture

Specific: EPA authorized the use of diflubenzuron on barley and wheat to control grasshoppers and Mormon crickets; July 1, 2005 to August 1, 2005. Contact: (Libby Pemberton)

EPA authorized the use of flufenacet on wheat to control Italian ryegrass; September 23, 2005 to December 31, 2005. Contact: (Andrew Ertman)

B. Federal Departments and Agencies

Agriculture Department

Animal and Plant Health Inspector Service

Crisis: On June 20, 2005, for the use of sodium hypochlorite, sodium carbonate, and sodium hydroxide on any item, field site, or surface potentially contaminated by exotic infectious disease organisms to control those organisms in various locations throughout the United States. This program is expected to end on June 21, 2008. Contact: (Libby Pemberton)

Defense Department

Quarantine: EPA authorized the use of paraformaldehyde on biological containment areas, biological safety cabinets and equipement, and high efficiency particulate air filters in the ventilation system to prevent the release of infectious microorganisms from containment areas); September 29, 2005 to September 29, 2008. Contact: (Libby Pemberton)

List of Subjects

Environmental protection, Pesticides and pest.

Dated: October 28, 2005.
Lois Rossi,
Director, Registration Division, Office of Pesticide Programs.

[FR Doc. 05-22618 Filed 11-15-05; 8:45 am]

BILLING CODE 6560-50-S